DEPARTMENT OF COMMERCE

International Trade Administration

[A-570-051]

Certain Hardwood Plywood Products From the People's Republic of China: Notice of Court Decision Not in Harmony With the Final Determination of Antidumping Duty Investigation; Notice of Amended Determination Pursuant to Court Decision; and Notice of Revocation of Antidumping Duty Order, in Part

AGENCY: Enforcement and Compliance, International Trade Administration, Department of Commerce.

SUMMARY: On October 10, 2023, the U.S. Court of International Trade (CIT) issued its final judgment in Linyi Chengen Import and Export Co., Ltd., et al., v. United States, Consol. Court no. 18-00002, sustaining the U.S. Department of Commerce (Commerce)'s fifth remand results of redetermination pertaining to the less-than-fair-value (LTFV) antidumping duty investigation of certain hardwood plywood products (hardwood plywood) from the People's Republic of China (China). Commerce is notifying the public that the CIT's final judgment is not in harmony with Commerce's final LTFV determination. Consequently, the final antidumping duty margin calculated for mandatory respondent Linyi Chengen Import and Export Co., Ltd. (Chengen) is now zero percent and the rate assigned to the companies who received separate rates and are party to this litigation (Separate Rate Plaintiffs) is the rate assigned to Chengen, zero percent. In addition, because the final margin assigned to Chengen and the two companies that requested voluntary respondent treatment and submitted all of the threshold information necessary to be eligible for voluntary respondent treatment, Zhejiang Dehua TB Import & Export Co. (Dehua TB) and Xuzhou Jiangyang Wood Industries, Co., Ltd. (Jiangyang), is zero, Chengen, Dehua TB, and Jiangyang, in the exporter-producer combinations assigned in the investigation, are excluded from the Order.

DATES: Applicable October 20, 2023.

FOR FURTHER INFORMATION CONTACT: Kabir Archuletta, AD/CVD Operations, Office V, Enforcement and Compliance, International Trade Administration, U.S. Department of Commerce, 1401 Constitution Avenue NW, Washington, DC 20230; telephone: (202) 482-2953.

SUPPLEMENTARY INFORMATION:

Background

On December 8, 2016, Commerce initiated an LTFV investigation on plywood from China,¹ and we issued our Final Determination in this investigation in November 2017.² In the Final Determination, Commerce calculated the normal value (NV) for mandatory respondent Chengen by applying the “intermediate input” methodology and valuing Chengen's consumption of wood veneers,³ rather than by valuing Chengen's consumption of wood logs.⁴ Commerce further assigned to the companies eligible for a separate rate, in combination with their suppliers, an estimated weighted-average dumping margin based on Chengen's estimated weighted-average dumping margin.⁵

¹ See Certain Hardwood Plywood Products from the People's Republic of China: Initiation of Less-Than-Fair-Value Investigation, 81 FR 91125 (December 16, 2016).

² See Certain Hardwood Plywood Products from the People's Republic of China: Final Determination of Sales at Less Than Fair Value, and Final Affirmative Determination of Critical Circumstances, in Part, 82 FR 53460 (November 16, 2017) (Final Determination), and accompanying Issues and Decision Memorandum (IDM).

³ Commerce's general practice in non-market economy proceedings, consistent with section 773(c)(1)(B) of the Tariff Act of 1930, as amended (the Act), is to calculate NV using the factors of production (FOP) that a respondent consumes to produce a unit of the subject merchandise. There are circumstances, however, in which Commerce will modify its standard FOP methodology, choosing instead to apply a surrogate value to an intermediate input instead of the individual FOPs used to produce that intermediate input. See Final Determination IDM at Comment 2.

⁴ See Final Determination IDM; see also Certain Hardwood Plywood Products from the People's Republic of China: Amended Final Determination of Sales at Less Than Fair Value, and Antidumping Duty Order, 83 FR 504 (January 4, 2018) (Order).

⁵ See Final Determination, 82 FR at 53462.

In Linyi Chengen Imp. & Exp. Co. v. United States, 391 F. Supp. 3d 1283 (CIT 2019) (Remand Order I), the CIT requested further explanation regarding our Final Determination. On remand, Commerce provided further explanation and continued to apply the intermediate input methodology, as in the underlying Final Determination, and made no change to the estimated weighted-average dumping margin calculated for Chengen and assigned to the Separate Rate Plaintiffs.⁶

⁶ See Final Results of Redetermination Pursuant to Court Remand, Linyi Chengen Import and Export Co., Ltd., et al. v. United States, Court No. 18-00002, Slip Op. 19-67 (CIT June 3, 2019), dated August 23, 2019. For a list of these companies, see Appendix to this notice; see also Linyi Chengen Import and Export Co., Ltd., et al. v. United States, 487 F. Supp. 3d 1349 (CIT 2020) (Remand Order III).

In its Remand Order II, the CIT found Commerce's explanation contrary to law and instructed it to accept certain information previously not permitted on the record.⁷ On remand and under respectful protest, Commerce accepted this new factual information from Chengen, reconsidered the application of the intermediate input methodology to Chengen, and calculated an estimated weighted-average dumping margin based on the valuation of Chengen's log FOPs, which resulted in an estimated weighted-average dumping margin for Chengen of zero percent.⁸ Because Chengen received a zero percent rate, Commerce explained that it intended to exclude hardwood plywood produced by Linyi Dongfangjuxin Wood Co., Ltd. (Dongfangjuxin) and exported by Chengen from the Order.⁹ In addition, Commerce revised the estimated weighted-average dumping margin for the China-wide entity to be equal to the highest dumping margin alleged in the Petition, 114.72 percent,¹⁰ and revised the estimated weighted-average dumping margin assigned to the Separate Rate Plaintiffs by averaging Chengen's zero percent rate with the rate assigned to the China-wide entity, 57.36 percent.¹¹

⁷ See Linyi Chengen Import and Export Co., Ltd., et al. v. United States, 433 F. Supp. 3d 1278, 1286 (CIT 2020) (Remand Order II), at 1.

⁸ See Final Results of Redetermination Pursuant to Court Remand, Linyi Chengen Import and Export Co., Ltd., et al. v. United States, Court No. 18-00002, Slip Op. 20-22 (CIT February 20, 2020), dated June 18, 2020 (Redetermination II).

⁹ See Redetermination II at 53.

¹⁰ Id. at 15 and Issue 3; see also Petitioner's Letter, “Petitions for the Imposition of Antidumping and Countervailing Duties,” dated November 18, 2016 (Petition).

¹¹ Id. at 16 and 52. The separate rate is the simple average of the rates determined for Chengen and the China-wide entity. The methodology for calculating this rate is also discussed in the Preliminary Determination in the LTFV investigation. See Certain Hardwood Plywood Products from the People's Republic of China: Preliminary Affirmative Determination of Sales at Less Than Fair Value, Preliminary Affirmative Determination of Critical Circumstances, in Part, 82 FR 28629 (June 23, 2017) (Preliminary Determination), and accompanying Preliminary Decision Memorandum at 21.

In its Remand Order III,¹² the CIT sustained Commerce's revised estimated weighted-average dumping margin for Chengen but requested further explanation of its calculation of the rate applied to the Separate Rate Plaintiffs.¹³ In Redetermination III,¹⁴ Commerce provided additional explanation concerning its conclusions in Redetermination II and made no changes to its calculation of the estimated dumping margin for the Separate Rate Plaintiffs.

¹² See Remand Order III.

¹³ Id., 487 F. Supp. 3d at 1358.

¹⁴ See Final Results of Redetermination Pursuant to Court Remand, Linyi Chengen Import and Export Co., Ltd., et al. v. United States, Court No. 18-00002, Slip Op. 20-183 (CIT December 21, 2020), dated March 22, 2021 (Redetermination III), available at https://access.trade.gov/resources/remands/20-183.pdf.

In its Remand Order IV,¹⁵ the Court held that Commerce's selection of the all-others separate rate was not reasonable and was not supported by substantial evidence and remanded the assignment of the separate rate to Commerce.¹⁶ In Redetermination IV, Commerce reviewed the record and provided further explanation why it continued to reasonably apply the simple average of the AFA rate and the zero percent rate calculated for Chengen.¹⁷

¹⁵ See Linyi Chengen Import and Export Co., Ltd., et al. v. United States, Consol. Ct. No. 18-00002, Slip. Op. 21-127 (CIT September 24, 2021) (Remand Order IV).

¹⁶ Id. at 18.

¹⁷ See Final Results of Redetermination Pursuant to Court Remand, Linyi Chengen Import and Export Co., Ltd., et al. v. United States, Court No. 18-00002, Slip Op. 22-150 (CIT December 21, 2022) (Redetermination IV) at 9-12.

In its Remand Order V,¹⁸ the Court held that Commerce's selection of the 57.36 percent rate assigned to the Separate Rate Plaintiffs was unreasonable as applied and not supported by substantial evidence.¹⁹ The Court instructed Commerce to reconsider the all-others separate rate consistent with its opinion, including whether other evidence on the record supports a lower rate after the applicable rates are averaged.²⁰ In Redetermination V, Commerce, determined, under protest, to apply Chengen's zero percent rate to the Separate Rate Plaintiffs.²¹ Commerce also determined to exclude from the Order the exporter/producer combinations assigned to Jiangyang and Dehua TB, the only two companies that provided all information required to be eligible for consideration as voluntary respondents.²²

¹⁸ See Linyi Chengen Import and Export Co., Ltd., et al. v. United States, Consol. Ct. No. 18-00002, Slip Op. 22-150 (CIT December 21, 2022) (Remand Order V).

¹⁹ See Remand Order V at 27.

²⁰ Id. at 27-28.

²¹ See Redetermination IV.

²² Id.

Timken Notice

In its decision in Timken,²³ as clarified by Diamond Sawblades,²⁴ the U.S. Court of Appeals for the Federal Circuit held that, pursuant to sections 516A(c) and (e) of the Act, Commerce must publish a notice of court decision that is not “in harmony” with a Commerce determination and must suspend liquidation of entries pending a “conclusive” court decision. The CIT's October 10, 2023, judgment constitutes a final decision of the CIT that is not in harmony with Commerce's Final Determination. Thus, this notice is published in fulfillment of the publication requirements of Timken.

²³ See Timken Co. v. United States, 893 F.2d 337 (Fed. Cir. 1990) (Timken).

²⁴ See Diamond Sawblades Manufacturers Coalition v. United States, 626 F.3d 1374 (Fed. Cir. 2010) (Diamond Sawblades).

Amended Final Determination

Because there is now a final court judgment, Commerce is amending the Order with respect Chengen, Dehua TB, Jiangyang, the China-wide entity, and the Separate Rate Plaintiffs. The revised weighted-average dumping margins for Chengen, Dehua TB, Jiangyang, the China-wide entity, and the Separate Rate Plaintiffs for the period April 1, 2016, through September 30, 2016, are as follows:

Exporter | Producer | Estimated dumping margin (percent) | Cash deposit rate (percent)
Linyi Chengen Import and Export Co., Ltd | Linyi Dongfangjuxin Wood Co., Ltd | 0.00 | N/A
Xuzhou Jiangyang Wood Industries Co., Ltd | Xuzhou Jiangyang Wood Industries Co., Ltd | 0.00 | N/A
Zhejiang Dehua TB Import & Export Co., Ltd | Dehua TB New Decoration Material Co., Ltd | 0.00 | N/A
Zhejiang Dehua TB Import & Export Co., Ltd | Zhangjiagang Jiuli Wood Co., Ltd | 0.00 | N/A
Separate Rate Plaintiffs ²⁵ |  | 0.00 | 0.00
China-Wide Entity ²⁶ |  | 114.72 | 114.72

Partial Exclusion From Antidumping Duty Order

²⁵ See Appendix for the exporter/producer combinations whose rates we are revising.

²⁶ The China-wide entity includes mandatory respondent, Shandong Dongfang Bayley Wood Co., Ltd.

Pursuant to section 735(a)(4) of the Act, Commerce “shall disregard any weighted average dumping margin that is de minimis as defined in section 733(b)(3) of the Act.” ²⁷ Furthermore, section 735(c)(2) of the Act states that “the investigation shall be terminated upon publication of that negative determination” and Commerce shall “terminate the suspension of liquidation” and “release any bond or other security, and refund any cash deposit.” ²⁸ As a result of this amended final determination, in which Commerce has calculated an estimated weighted-average dumping margin of 0.00 percent for Chengen, and assigned Chengen's zero percent rate and eligibility for exclusion under section 735(c)(2) of the Act to Dehua TB and Jiangyang, in combination with their suppliers as noted above, Commerce is hereby excluding subject merchandise produced by Dongfangjuxin and exported by Chengen, produced and exported by Jiangyang, and produced by Dehua TB New Decoration Co., Ltd., or Zhangjiagang Jiuli Wood Co., Ltd., and exported by Dehua TB. Accordingly, Commerce will direct U.S. Customs and Border Protection (CBP) to release any bonds or other security and refund cash deposits pertaining to any suspended entries attributable to the exporter-producer combinations assigned to Chengen, Dehua TB, and Jiangyang referenced above. This exclusion does not apply to any other companies or exporter-producer combinations.

²⁷ Section 733(b)(3) of the Act defines a de minimis dumping margin as “less than 2 percent ad valorem or the equivalent specific rate for the subject merchandise.”

²⁸ See sections 735(c)(2)(A) and (B) of the Act.

Liquidation of Suspended Entries

Pursuant to Timken, the suspension of liquidation must continue during the pendency of the appeals process. Thus, we will instruct CBP to continue to suspend liquidation of all unliquidated entries under the applicable exporter-producer combinations for Chengen, Dehua TB, Jiangyang, and Separate Rate Plaintiffs ²⁹ at a cash deposit rate of 0.00 percent which are entered, or withdrawn from warehouse, for consumption after October 20, 2023, which is ten days after the CIT's final decision, in accordance with section 516A of the Act.³⁰ If the CIT's ruling is not appealed, or if appealed and upheld, Commerce will instruct CBP to terminate the suspension of liquidation and to liquidate entries from the exporter-producer combinations assigned to Chengen, Dehua TB, Jiangyang without regard to antidumping duties. In addition, Commerce will instruct CBP to terminate suspension and to liquidate entries from the exporter-producer combinations assigned to the Separate Rate Plaintiffs without regard to antidumping duties for all completed reviews of this Order, except where those Separate Rate Plaintiffs were subsequently assigned an above-de minimis margin or lost their separate rate. As a result of the exclusion, Commerce will not initiate any new administrative reviews of entries from the exporter-producer combinations assigned to Chengen, Dehua TB, or Jiangyang, pursuant to the Order.

²⁹ This only applies to Separate Rate Plaintiffs who were not assigned an above de minimis antidumping duty margin, or who lost their separate rate status, after the LTFV investigation.

³⁰ See, e.g., Drill Pipe from the People's Republic of China: Notice of Court Decision Not in Harmony with International Trade Commission's Injury Determination, Revocation of Antidumping and Countervailing Duty Orders Pursuant to Court Decision, and Discontinuation of Countervailing Duty Administrative Review, 79 FR 78037, 78038 (December 29, 2014); and High Pressure Steel Cylinders From the People's Republic of China: Notice of Court Decision Not in Harmony With Final Determination in Less Than Fair Value Investigation, Notice of Amended Final Determination Pursuant to Court Decision, Notice of Revocation of Antidumping Duty Order in Part, and Discontinuation of Fifth Antidumping Duty Administrative Review, 82 FR 46758, 46760 (October 6, 2017).

Notification to Interested Parties

This notice is issued and published in accordance with sections 516A(c) and (e) and 777(i)(1) of the Act.

Dated: November 6, 2023.
Abdelali Elouaradia,
Deputy Assistant Secretary for Enforcement and Compliance.

Appendix

List of Separate Rate Plaintiffs

Exporter name | Manufacturer name
Linyi Chengen Import and Export Co., Ltd | Linyi Dongfangjuxin Wood Co., Ltd.
Anhui Hoda Wood Co., Ltd | Feixian Jianxin Board Factory.
Anhui Hoda Wood Co., Ltd | Linyi Xicheng Wood Co., Ltd.
Anhui Hoda Wood Co., Ltd | Linyi Longxin Wood Co., Ltd.
Anhui Hoda Wood Co., Ltd | Fengxian Jihe Wood Co., Ltd.
Anhui Hoda Wood Co., Ltd | Xuzhou Chunyiyang Wood Co., Ltd.
Anhui Hoda Wood Co., Ltd | Linyi Lanshan District Xiangfeng Decorative Board Factory.
Anhui Hoda Wood Co., Ltd | Linyi Lanshan District Fubai Wood Board Factory.
Anhui Hoda Wood Co., Ltd | Shandong Jubang Wood Co., Ltd.
Anhui Hoda Wood Co., Ltd | Feixian Shangye Town Mingda Multi-Layered Board Factory.
Anhui Hoda Wood Co., Ltd | Xuzhou Dayuan Wood Co., Ltd.
Anhui Hoda Wood Co., Ltd | Linyi Mingzhu Wood Co., Ltd.
Anhui Hoda Wood Co., Ltd | Linyi Renlin Wood Co., Ltd.
Celtic Co., Ltd | Linyi Celtic Wood Co., Ltd.
Celtic Co., Ltd | Pinyi Fuhua Wood Co., Ltd.
Cosco Star International Co., Ltd | Linyi Huasheng Yongbin Wood Corp.
Cosco Star International Co., Ltd | Suining Pengxiang Wood Co., Ltd.
Cosco Star International Co., Ltd | Pizhou Jiangshan Wood Co., Ltd.
Cosco Star International Co., Ltd | Shandong Union Wood Co. Ltd.
Cosco Star International Co., Ltd | Linyi Sanfortune Wood Co. Ltd.
Cosco Star International Co., Ltd | Shandong Anxin Timber Co., Ltd.
Cosco Star International Co., Ltd | Linyi Evergreen Wood Co., Ltd.
Cosco Star International Co., Ltd | Shandong Huaxin Jiasheng Wood Co., Ltd.
Cosco Star International Co., Ltd | Xuzhou Shenghe Wood Co., Ltd.
Cosco Star International Co., Ltd | Pingyi Jinniu Wood Co., Ltd.
Cosco Star International Co., Ltd | Linyi Celtic Wood Co., Ltd.
Cosco Star International Co., Ltd | Linyi Laiyi Timber Industry Co., Ltd.
Cosco Star International Co., Ltd | Feixian Hongqiang Wood Co., Ltd.
Cosco Star International Co., Ltd | Feixian Xingying Wood Co., Ltd.
Cosco Star International Co., Ltd | Linyi City Lanshan District Fubo Wood Factory.
Golder International Trade Co., Ltd | Fengxian Fangyuan Wood Co., Ltd.
Huainan Mengping Import and Export Co., Ltd | Linyi Qianfeng Panel Factory Co., Ltd.
Jiangsu Top Point International Co., Ltd | Linyi Jinkun Wood Co., Ltd.
Jiangsu Top Point International Co., Ltd | Feixian Huafeng Wood Co., Ltd.
Jiangsu Top Point International Co., Ltd | Feixian Fuyang Plywood Factory.
Jiaxing Gsun Imp. & Exp. Co., Ltd | Fengxian Hengyuan Wood Industry Co., Ltd.
Jiaxing Gsun Imp. & Exp. Co., Ltd | Feixian Junyang Wood Industry Co., Ltd.
Jiaxing Gsun Imp. & Exp. Co., Ltd | Feixian Junbang Wood Factory.
Jiaxing Gsun Imp. & Exp. Co., Ltd | Linyi City Lanshan District Mingda Wood Factory.
Jiaxing Gsun Imp. & Exp. Co., Ltd | Feixian Hongyun Wood Factory.
Jiaxing Gsun Imp. & Exp. Co., Ltd | Linyi City Lanshan District Xiangfeng Wood Decoration Factory.
Jiaxing Gsun Imp. & Exp. Co., Ltd | Shandong Jubang Wood Co., Ltd.
Jiaxing Gsun Imp. & Exp. Co., Ltd | Feixian Yixin Wood Processing Factory.
Jiaxing Gsun Imp. & Exp. Co., Ltd | Pizhou Wantai Wood Industry Co., Ltd.
Jiaxing Gsun Imp. & Exp. Co., Ltd | Feixian Fengxiang Wood Processing Factory.
Jiaxing Gsun Imp. & Exp. Co., Ltd | Shandong Compete Wood Co., Ltd.
Jiaxing Gsun Imp. & Exp. Co., Ltd | Linyi Kunyu Plywood Factory.
Jiaxing Hengtong Wood Co., Ltd | Jiaxing Hengtong Wood Co., Ltd.
Lianyungang Yuantai International Trade Co., Ltd | Xinyi Chaohua Wood Co., Ltd.
Lianyungang Yuantai International Trade Co., Ltd | Linyi Huasheng Yongbin Wood Corp.
Lianyungang Yuantai International Trade Co., Ltd | Linyi City Lanshan District Fubo Wood Factory.
Lianyungang Yuantai International Trade Co., Ltd | Fei County Hongsheng Wood Co., Ltd.
Lianyungang Yuantai International Trade Co., Ltd | Xuzhou Hongwei Wood Co., Ltd.
Lianyungang Yuantai International Trade Co., Ltd | Pizhou Jinguoyuan Wood Co., Ltd.
Lianyungang Yuantai International Trade Co., Ltd | Feixian Wanda Wood Co., Ltd.
Lianyungang Yuantai International Trade Co., Ltd | Linyi City Lanshan District Fuerda Wood Factory.
Lianyungang Yuantai International Trade Co., Ltd | Shandong Jubang Wood Co., Ltd.
Lianyungang Yuantai International Trade Co., Ltd | Feixian Hongyun Wood Factory.
Lianyungang Yuantai International Trade Co., Ltd | Linyi City Lanshan District Xiangfeng Wood Decoration Factory.
Lianyungang Yuantai International Trade Co., Ltd | Linyi Renlin Wood Industry Co., Ltd.
Lianyungang Yuantai International Trade Co., Ltd | Linyi City Lanshan District Mingda Wood Factory.
Linyi City Dongfang Fukai Wood Industry Co., Ltd | Linyi City Dongfang Fukai Wood Industry Co., Ltd.
Linyi City Dongfang Jinxin Economic and Trade Co., Ltd | Linyi City Dongfang Jinxin Economic and Trade Co., Ltd.
Linyi City Shenrui International Trade Co., Ltd | Linyi City Dongfang Fuchao Wood Co., Ltd.
Linyi Dahua Wood Co., Ltd | Linyi Dahua Wood Co., Ltd.
Linyi Evergreen Wood Co., Ltd | Linyi Evergreen Wood Co., Ltd.
Linyi Glary Plywood Co., Ltd | Linyi Glary Plywood Co., Ltd.
Linyi Hengsheng Wood Industry Co., Ltd | Linyi Hengsheng Wood Industry Co., Ltd.
Linyi Huasheng Yongbin Wood Co., Ltd | Linyi Huasheng Yongbin Wood Co., Ltd.
Linyi Jiahe Wood Industry Co., Ltd | Linyi Jiahe Wood Industry Co., Ltd.
Linyi Linhai Wood Co., Ltd | Linyi Linhai Wood Co., Ltd.
Linyi Mingzhu Wood Co., Ltd | Linyi Mingzhu Wood Co., Ltd.
Linyi Sanfortune Wood Co., Ltd | Linyi Sanfortune Wood Co., Ltd.
Pingyi Jinniu Wood Co., Ltd | Pingyi Jinniu Wood Co., Ltd.
Qingdao Good Faith Import and Export Co., Ltd | Linyi Fubo Wood Co., Ltd.
Qingdao Good Faith Import and Export Co., Ltd | Linyi Tuopu Zhixin Wooden Industry Co., Ltd.
Qingdao Good Faith Import and Export Co., Ltd | Linyi Haisen Wood Co., Ltd.
Qingdao Good Faith Import and Export Co., Ltd | Linyi Jubang Wood Co., Ltd.
Qingdao Good Faith Import and Export Co., Ltd | Xuzhou Changcheng Wood Co., Ltd.
Qingdao Good Faith Import and Export Co., Ltd | Xuzhou Jinguoyuan Wood Co., Ltd.
Qingdao Good Faith Import and Export Co., Ltd | Xuzhou Xuexin Wood Co., Ltd.
Qingdao Good Faith Import and Export Co., Ltd | Anhui Fuyang Qinglin Wood Products Co., Ltd.
Qingdao Good Faith Import and Export Co., Ltd | Anhui Huijin Wood Co., Ltd.
Qingdao Good Faith Import and Export Co., Ltd | Anhui Lingfeng Wood Co., Ltd.
Qingdao Good Faith Import and Export Co., Ltd | Suzhou Dongsheng Wood Co., Ltd.
Qingdao Good Faith Import and Export Co., Ltd | Pizhou Zhongxin Wood Co., Ltd.
Qingdao Good Faith Import and Export Co., Ltd | Xuzhou Spring Art Yang Wood Industry Co., Ltd.
Qingdao Top P&Q International Corp | Yutai Zezhong Wood Products Co., Ltd.
Qingdao Top P&Q International Corp | Feixian Tanyi Youchengjiafu Wood Products Co., Ltd.
Qingdao Top P&Q International Corp | Linyi Qianfeng Wood Products Co., Ltd.
Qingdao Top P&Q International Corp | Xuzhou Chunyiyang Wood Products Co. Ltd.
Qingdao Top P&Q International Corp | Linyi Longxin Wood Products Co., Ltd.
Qingdao Top P&Q International Corp | Linyi Lanshan Wanmei Wood Factory.
Qingdao Top P&Q International Corp | Di Birch Wood Industry Co., Ltd.
Qingdao Top P&Q International Corp | Shandong Junxing Wood Products Co., Ltd.
Qingdao Top P&Q International Corp | Anhui Qinglin Wood Products Co., Ltd.
Qingdao Top P&Q International Corp | Linyi Fuerda Wood Products Co., Ltd.
Qingdao Top P&Q International Corp | Fengxian Shuangxingyuan Wood Co., Ltd.
Shandong Qishan International Trading Co., Ltd | Linyi Tuopu Zhixin Wooden Industry Co., Ltd.
Shanghai Futuwood Trading Co., Ltd | Linyi Jinghua Wood Industry Co., Ltd.
Shanghai Futuwood Trading Co., Ltd | Linyi Lianbang Wood Industry Co., Ltd.
Shanghai Futuwood Trading Co., Ltd | Linyi Huada Wood Industry Co., Ltd.
Shanghai Futuwood Trading Co., Ltd | Linyi Jinkun Wood Industry Co., Ltd.
Shanghai Futuwood Trading Co., Ltd | Linyi Yuqiao Board Factory.
Shanghai Futuwood Trading Co., Ltd | Linyi Laite Board Factory.
Shanghai Futuwood Trading Co., Ltd | Linyi Tuopu Zhixin Wooden Industry Co., Ltd.
Shanghai Futuwood Trading Co., Ltd | Feixian Huafeng Wood Industry Co., Ltd.
Shanghai Futuwood Trading Co., Ltd | Xuzhou Shuangxingyuan Wood Industry Co., Ltd.
Shanghai Futuwood Trading Co., Ltd | Linyi Youcheng Jiafu Wood Industry Co., Ltd.
Shanghai Futuwood Trading Co., Ltd | Shandong Qingyuan Wood Industry Co., Ltd.
Shanghai Futuwood Trading Co., Ltd | Linyi Lanshan Jinhao Board Factory.
Shanghai Futuwood Trading Co., Ltd | Linyi Lanshan Fubai Wood Industry Board Factory.
Shanghai Futuwood Trading Co., Ltd | Siyang Dazhong Wood Product Factory.
Shanghai Futuwood Trading Co., Ltd | Binzhou Yongsheng Artificial Board Industrial Trade Co., Ltd.
Shanghai Futuwood Trading Co., Ltd | Shandong Jinqiu Wood Industry Co., Ltd.
Shanghai Futuwood Trading Co., Ltd | Linyi Senpeng Wood Industry Co., Ltd.
Shanghai Futuwood Trading Co., Ltd | Xuzhou Heng'an Wood Industry Co., Ltd.
Shanghai Futuwood Trading Co., Ltd | Dangshan Weidi Wood Industry Co., Ltd.
Shanghai Futuwood Trading Co., Ltd | Fengxian Jihe Wood Industry Co., Ltd.
Shanghai Futuwood Trading Co., Ltd | Yutai Zezhong Wood Industry Co., Ltd.
Shanghai Futuwood Trading Co., Ltd | Linyi Huasheng Yongbin Wood Co., Ltd.
Shanghai Futuwood Trading Co., Ltd | Linyi Kaifeng Wood Board Factory.
Shanghai Futuwood Trading Co., Ltd | Linyi Mingda Wood Industry Co., Ltd.
Shanghai Futuwood Trading Co., Ltd | Yangxin County Xintong Decorative Materials Co., Ltd.
Shanghai Futuwood Trading Co., Ltd | Pingyi County Zhongli Wood Products Factory.
Shanghai Futuwood Trading Co., Ltd | Pingyi County Yuxin Board Factory.
Shanghai Futuwood Trading Co., Ltd | Linyi Mingzhu Wood Co., Ltd.
Suining Pengxiang Wood Co., Ltd | Suining Pengxiang Wood Co., Ltd.
Sumec International Technology Co., Ltd | Shandong Junxing Wood Industry Co., Ltd.
Sumec International Technology Co., Ltd | Linyi Xicheng Wood Industry Co., Ltd.
Sumec International Technology Co., Ltd | Linyi City Lanshan District Linyu Board Factory.
Suqian Hopeway International Trade Co., Ltd | Xuzhou Henglin Wood Co., Ltd.
Suqian Hopeway International Trade Co., Ltd | Qufu Shengda Wood Co., Ltd.
Suqian Hopeway International Trade Co., Ltd | Pizhou Xuexin Wood Products Co., Ltd.
Suqian Hopeway International Trade Co., Ltd | Pizhou Jiangshan Wood Co., Ltd.
Suqian Hopeway International Trade Co., Ltd | Shandong Union Wood Co., Ltd.
Suqian Hopeway International Trade Co., Ltd | Linyi City Lanshan District Fubo Wood Factory.
Suqian Hopeway International Trade Co., Ltd | Linyi Mingzhu Wood Co., Ltd.
Suqian Hopeway International Trade Co., Ltd | Suzhou Dongsheng Wood Co., Ltd.
Suqian Hopeway International Trade Co., Ltd | Linyi Jiahe Wood Industry Co., Ltd.
Suqian Hopeway International Trade Co., Ltd | Linyi Dahua Wood Co., Ltd.
Suzhou Dongsheng Wood Co., Ltd | Suzhou Dongsheng Wood Co., Ltd.
Suzhou Fengshuwan Import and Exports Trade Co., Ltd | Xuzhou Henglin Wood Co., Ltd.
Suzhou Fengshuwan Import and Exports Trade Co., Ltd | Linyi Mingzhu Wood Co., Ltd.
Suzhou Fengshuwan Import and Exports Trade Co., Ltd | Linyi Jiahe Wood Industry Co., Ltd.
Suzhou Oriental Dragon Import and Export Co., Ltd | Linyi Tiancai Timber Co., Ltd.
Suzhou Oriental Dragon Import and Export Co., Ltd | Lingyi Huasheng Yongbin Wood Co., Ltd.
Suzhou Oriental Dragon Import and Export Co., Ltd | Linyi Xicheng Wood Products Co., Ltd.
Suzhou Oriental Dragon Import and Export Co., Ltd | Linyi Longxin Wood Co., Ltd.
Suzhou Oriental Dragon Import and Export Co., Ltd | Linyi Oriental Fuchao Wood Co., Ltd.
Suzhou Oriental Dragon Import and Export Co., Ltd | Linyi Qianfeng Wood Co., Ltd.
Suzhou Oriental Dragon Import and Export Co., Ltd | Feixian Wanda Wood Factory.
Suzhou Oriental Dragon Import and Export Co., Ltd | Shandong Union Wood Co., Ltd.
Suzhou Oriental Dragon Import and Export Co., Ltd | Shandong Jinqiu Wood Corporation.
Suzhou Oriental Dragon Import and Export Co., Ltd | Yinhe Machinery Chemical Limited Company Of Shandong Province.
Suzhou Oriental Dragon Import and Export Co., Ltd | Linyi City Yongsen Wood Corp.
Suzhou Oriental Dragon Import and Export Co., Ltd | Xuzhou Changcheng Wood Co., Ltd.
Suzhou Oriental Dragon Import and Export Co., Ltd | Pizhou Fushen Wood Co., Ltd.
Suzhou Oriental Dragon Import and Export Co., Ltd | Pizhou Yuanxing Wood Co., Ltd.
Suzhou Oriental Dragon Import and Export Co., Ltd | Xuzhou Yuantai Wood Co., Ltd.
Suzhou Oriental Dragon Import and Export Co., Ltd | Xuzhou Hongfu Wood Co., Ltd.
Suzhou Oriental Dragon Import and Export Co., Ltd | Feng County Shuangxingyuan Wood.
Suzhou Oriental Dragon Import and Export Co., Ltd | Anhui Fuyang Qinglin Wood Products Co., Ltd.
Suzhou Oriental Dragon Import and Export Co., Ltd | Linyi Dahua Wood Co., Ltd.
Suzhou Oriental Dragon Import and Export Co., Ltd | Juxian Dechang Wood Co., Ltd.
Suzhou Oriental Dragon Import and Export Co., Ltd | Feixian Jinhao Wood Board Plant.
Suzhou Oriental Dragon Import and Export Co., Ltd | Siyang Dahua Plywood Plant.
Suzhou Oriental Dragon Import and Export Co., Ltd | Linyi Lanshan District Fubo Woods Factory.
Suzhou Oriental Dragon Import and Export Co., Ltd | Xuzhou Deheng Wood Co., Ltd.
Suzhou Oriental Dragon Import and Export Co., Ltd | Linyi Kaifeng Wood Board Factory.
Suzhou Oriental Dragon Import and Export Co., Ltd | Linyi Zhenyuan Wood Products Co., Ltd.
Suzhou Oriental Dragon Import and Export Co., Ltd | Xuzhou Weilin Wood Co., Ltd.
Suzhou Oriental Dragon Import and Export Co., Ltd | Linyi Tianlu Wood Board Factory.
Suzhou Oriental Dragon Import and Export Co., Ltd | Linyi Baoshan Board Factory.
Suzhou Oriental Dragon Import and Export Co., Ltd | Linyi Mingzhu Wood Co., Ltd.
Suzhou Oriental Dragon Import and Export Co., Ltd | Xinyi Chaohua Wood Co., Ltd.
Suzhou Oriental Dragon Import and Export Co., Ltd | Pizhou Jinguoyuan Wood Co., Ltd.
Suzhou Oriental Dragon Import and Export Co., Ltd | Feng County Jihe Wood Co., Ltd.
Suzhou Oriental Dragon Import and Export Co., Ltd | Dangshan County Weidi Wood Co., Ltd.
Suzhou Oriental Dragon Import and Export Co., Ltd | Zhucheng Runheng Industrial and Trading Co., Ltd.
Xuzhou Andefu Wood Co., Ltd | Fengxian Fangyuan Wood Co., Ltd.
Xuzhou DNT Commercial Co., Ltd | Xuzhou Longyuan Wood Industry Co., Ltd.
Xuzhou DNT Commercial Co., Ltd | Linyi Changcheng Wood Co., Ltd.
Xuzhou DNT Commercial Co., Ltd | Feixian Jinde Wood Co., Ltd.
Xuzhou DNT Commercial Co., Ltd | Suzhou Dongsheng Wood Co., Ltd.
Xuzhou DNT Commercial Co., Ltd | Fengxian Fangyuan Wood Co., Ltd.
Xuzhou DNT Commercial Co., Ltd | Xuzhou City Hengde Wood Products Co., Ltd.
Xuzhou DNT Commercial Co., Ltd | Pizhou Jiangshan Wood Co., Ltd.
Xuzhou DNT Commercial Co., Ltd | Linyi Huasheng Yongbin Wood Corp.
Xuzhou DNT Commercial Co., Ltd | Pizhou Jinguoyuan Wood Co., Ltd.
Xuzhou DNT Commercial Co., Ltd | Linyi Mingzhu Wood Co., Ltd.
Xuzhou DNT Commercial Co., Ltd | Linyi Renlin Wood Industry Co., Ltd.
Xuzhou DNT Commercial Co., Ltd | Binzhou Yongsheng Artificial Board Industrial & Training Co., Ltd.
Xuzhou DNT Commercial Co., Ltd | Xuzhou Zhongcai Wood Co., Ltd.
Xuzhou DNT Commercial Co., Ltd | Anhui Xinyuanda Wood Co., Ltd.
Xuzhou DNT Commercial Co., Ltd | Shandong Lianbang Wood Co., Ltd.
Xuzhou DNT Commercial Co., Ltd | Linyi Xinrui Wood Co., Ltd.
Xuzhou DNT Commercial Co., Ltd | Shandong Huashi Lvyuan Wood Co., Ltd.
Xuzhou DNT Commercial Co., Ltd | Xuzhou Fuyu Wood Co., Ltd.
Xuzhou DNT Commercial Co., Ltd | Linyi Dazhong Wood Co., Ltd.
Xuzhou DNT Commercial Co., Ltd | Shandong Junxing Wood Co., Ltd.
Xuzhou DNT Commercial Co., Ltd | Linyi City Lanshan District Linyu Plywood Factory.
Xuzhou DNT Commercial Co., Ltd | Linyi City Dongfang Fuchao Wood Co., Ltd.
Xuzhou DNT Commercial Co., Ltd | Linyi Dahua Wood Co., Ltd.
Xuzhou DNT Commercial Co., Ltd | Linyi Qianfeng Wood Co., Ltd.
Xuzhou DNT Commercial Co., Ltd | Xuzhou Zhongtong Wood Co., Ltd.
Xuzhou DNT Commercial Co., Ltd | Shandong Oufan Wood Co., Ltd.
Xuzhou DNT Commercial Co., Ltd | Shandong Jubang Wood Co., Ltd.
Xuzhou DNT Commercial Co., Ltd | Xuzhou Changcheng Wood Products Co., Ltd.
Xuzhou DNT Commercial Co., Ltd | Feixian Jinhao Wood Board Plant.
Xuzhou DNT Commercial Co., Ltd | Feixian Huafeng Wood Co., Ltd.
Xuzhou DNT Commercial Co., Ltd | Dhanshan County Weidi Wood Co., Ltd.
Xuzhou DNT Commercial Co., Ltd | Xuzhou DNT Commercial Co., Ltd.
Xuzhou Eastern Huatai International Trading Co., Ltd | Linyi Longxin Wood Co., Ltd.
Xuzhou Eastern Huatai International Trading Co., Ltd | Linyi Xicheng Wood Co., Ltd.
Xuzhou Eastern Huatai International Trading Co., Ltd | Xuzhou Hongfu Wood Co., Ltd.
Xuzhou Eastern Huatai International Trading Co., Ltd | Xu Zhou Chang Cheng Wood Co, Ltd.
Xuzhou Jiangyang Wood Industries Co., Ltd | Xuzhou Jiangyang Wood Industries Co., Ltd.
Xuzhou Longyuan Wood Industry Co., Ltd | Xuzhou Longyuan Wood Industry Co., Ltd.
Xuzhou Pinlin International Trade Co., Ltd | Xuzhou Longyuan Wood Industry Co., Ltd.
Xuzhou Pinlin International Trade Co., Ltd | Linyi Changcheng Wood Co., Ltd.
Xuzhou Pinlin International Trade Co., Ltd | Feixian Jinde Wood Co., Ltd.
Xuzhou Pinlin International Trade Co., Ltd | Suzhou Dongsheng Wood Co., Ltd.
Xuzhou Pinlin International Trade Co., Ltd | Fengxian Fangyuan Wood Co., Ltd.
Xuzhou Pinlin International Trade Co., Ltd | Xuzhou City Hengde Wood Products Co., Ltd.
Xuzhou Pinlin International Trade Co., Ltd | Pizhou Jiangshan Wood Co., Ltd.
Xuzhou Pinlin International Trade Co., Ltd | Linyi Huasheng Yongbin Wood Corp.
Xuzhou Pinlin International Trade Co., Ltd | Pizhou Jinguoyuan Wood Co., Ltd.
Xuzhou Pinlin International Trade Co., Ltd | Linyi Mingzhu Wood Co., Ltd.
Xuzhou Pinlin International Trade Co., Ltd | Linyi Renlin Wood Industry Co., Ltd.
Xuzhou Pinlin International Trade Co., Ltd | Binzhou Yongsheng Artificial Board Industrial & Training Co., Ltd.
Xuzhou Pinlin International Trade Co., Ltd | Xuzhou Zhongcai Wood Co., Ltd.
Xuzhou Pinlin International Trade Co., Ltd | Anhui Xinyuanda Wood Co., Ltd.
Xuzhou Pinlin International Trade Co., Ltd | Shandong Lianbang Wood Co., Ltd.
Xuzhou Pinlin International Trade Co., Ltd | Linyi Xinrui Wood Co., Ltd.
Xuzhou Pinlin International Trade Co., Ltd | Shandong Huashi Lvyuan Wood Co., Ltd.
Xuzhou Pinlin International Trade Co., Ltd | Xuzhou Fuyu Wood Co., Ltd.
Xuzhou Pinlin International Trade Co., Ltd | Linyi Dazhong Wood Co., Ltd.
Xuzhou Pinlin International Trade Co., Ltd | Shandong Junxing Wood Co., Ltd.
Xuzhou Pinlin International Trade Co., Ltd | Linyi City Lanshan District Linyu Plywood Factory.
Xuzhou Pinlin International Trade Co., Ltd | Linyi City Dongfang Fuchao Wood Co., Ltd.
Xuzhou Pinlin International Trade Co., Ltd | Linyi Dahua Wood Co., Ltd.
Xuzhou Pinlin International Trade Co., Ltd | Linyi Qianfeng Wood Co., Ltd.
Xuzhou Pinlin International Trade Co., Ltd | Xuzhou Zhongtong Wood Co., Ltd.
Xuzhou Pinlin International Trade Co., Ltd | Shandong Oufan Wood Co., Ltd.
Xuzhou Pinlin International Trade Co., Ltd | Shandong Jubang Wood Co., Ltd.
Xuzhou Pinlin International Trade Co., Ltd | Xuzhou Changcheng Wood Products Co., Ltd.
Xuzhou Pinlin International Trade Co., Ltd | Feixian Jinhao Wood Board Plant.
Xuzhou Pinlin International Trade Co., Ltd | Feixian Huafeng Wood Co., Ltd.
Xuzhou Pinlin International Trade Co., Ltd | Dhanshan County Weidi Wood Co., Ltd.
Xuzhou Pinlin International Trade Co., Ltd | Xuzhou Hongmei Wood Development Co., Ltd.
Xuzhou Shengping Imp and Exp Co., Ltd | Xuzhou Longyuan Wood Industry Co., Ltd.
Xuzhou Shuner Import & Export Trade Co. Ltd | Pizhou Fushen Wood Co. Ltd.
Xuzhou Timber International Trade Co., Ltd | Xuzhou Jiangheng Wood Products Co., Ltd.
Xuzhou Timber International Trade Co., Ltd | Xuzhou Jiangyang Wood Industries Co., Ltd.
Xuzhou Timber International Trade Co., Ltd | Xuzhou Changcheng Wood Co., Ltd.
Xuzhou Timber International Trade Co., Ltd | Fengxian Shuangxingyuan Wood Co., Ltd.
Xuzhou Timber International Trade Co., Ltd | Linyi Mingzhu Wood Co., Ltd.
Xuzhou Timber International Trade Co., Ltd | Linyi City Lanshan District Daqian Wood Board Factory.
Xuzhou Timber International Trade Co., Ltd | Feixian Hongsheng Wood Co., Ltd.
Xuzhou Timber International Trade Co., Ltd | Xuzhou Hongwei Wood Co., Ltd.
Xuzhou Timber International Trade Co., Ltd | Pizhou Jinguoyuan Wood Co., Ltd.
Xuzhou Timber International Trade Co., Ltd | Linyi Qianfeng Wood Factory.
Xuzhou Timber International Trade Co., Ltd | Linyi Renlin Wood Industry Co., Ltd.
Xuzhou Timber International Trade Co., Ltd | Xuzhou Senyuan Wood Products Co., Ltd.
Xuzhou Timber International Trade Co., Ltd | Jiangsu Lishun Industrial and Trading Co., Ltd.
Xuzhou Timber International Trade Co., Ltd | Pizhou Xuexin Wood Industry Co., Ltd.
Xuzhou Timber International Trade Co., Ltd | Feixian Hongjing Board Factory.
Xuzhou Timber International Trade Co., Ltd | Xuzhou Jiaqiang Wood Industry Co., Ltd.
Xuzhou Timber International Trade Co., Ltd | Shandong Shelter Forest Products Co., Ltd.
Xuzhou Timber International Trade Co., Ltd | Jiangsu Binsong Wood Co., Ltd.
Zhejiang Dehua Tb Import & Export Co., Ltd | Dehua Tb New Decoration Material Co., Ltd.
Zhejiang Dehua Tb Import & Export Co., Ltd | Zhangjiagang Jiuli Wood Co., Ltd.
Shandong Dongfang Bayley Wood Co., Ltd | Shandong Dongfang Bayley Wood Co., Ltd.
Suining Pengxiang Wood Co., Ltd | Suining Pengxiang Wood Co., Ltd.

[FR Doc. 2023-24996 Filed 11-13-23; 8:45 a.m.]

BILLING CODE 3510-DS-P